DEPARTMENT OF EDUCATION

[Docket No.: ED-2024-SCC-0067]

Agency Information Collection Activities; Submission to the Office of Management and Budget for Review and Approval; Comment Request; U.S. Department of Education Postsecondary Success Recognition Program

AGENCY: Office of Postsecondary Education (OPE), Department of Education (ED).

ACTION: Notice.

SUMMARY: In accordance with the Paperwork Reduction Act (PRA) of 1995, the Department is proposing a new information collection request (ICR).

DATES: Interested persons are invited to submit comments on or before August 12, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Jennifer Engle, (202) 987-0420.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: U.S. Department of Education Postsecondary Success Recognition Program.

OMB Control Number: 1840-NEW.

Type of Review: New ICR.

Respondents/Affected Public: State, Local, and Tribal Governments.

Total Estimated Number of Annual Responses: 150.

Total Estimated Number of Annual Burden Hours: 1,500.

Abstract: This recognition program is administered by the Office of Postsecondary Education in the U.S. Department of Education (Department). The purpose of this program is to recognize institutions that serve as engines of economic mobility by supporting all students to complete affordable credentials of value that prepare them well to participate in the workforce, their communities, and our democracy. For this recognition program, the Department considers postsecondary success to include providing access to an affordable education including to under served populations; supporting students through to completion of credentials of value; and helping students navigate to career pathways that improve their lives through economic mobility. This program does not include financial compensation nor guarantee financial compensation in the future.

Dated: July 9, 2024.
Kun Mullan,
PRA Coordinator, Strategic Collections and Clearance, Governance and Strategy Division, Office of Chief Data Officer, Office of Planning, Evaluation and Policy Development.

[FR Doc. 2024-15318 Filed 7-11-24; 8:45 am]

BILLING CODE 4000-01-P